DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before October 20, 2000.

ADDRESS COMMENTS TO: Records Center, Research and Special Programs Administration, U.S. Department of Transportation, Washington, DC 20590.

Comments should refer to the application number and be submitted in triplicate. If conformation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW. Washington, DC 20590 or at http://dms.dot.gov.

This notice of receipt of applications for new exemptions is published in accordance with Part 107 of the Federal hazardous materials transportation law (49 U.S.C. 5117(b); 49 CFR 1.53(b)).

Issued in Washington, DC, on September 14, 2000.
J. Suzanne Hedgepeth,
Director, Office of Hazardous Materials Exemptions and Approvals.

New Exemptions
Application No. | Docket No. | Applicant | Regulation(s) affected | Nature of exemption thereof
12531-N | RSPA-00-7865 | Worthington Cylinder Corporation, Columbus, OH | 49 CFR 173.302(a), 173.304(a), 173.304(d), 178.61(b), 178.61(f), 178.61(g), 178.61(i), 178.61(k) | To authorize the manufacture, marking, sale and use of non-DOT specification cylinders designed in accordance with DOT 4BW specification for use in transporting various hazarous materials. (Modes 1, 2, 3, 4.)
12532-N | RSPA-00-7864 | Carleton Technologies Inc., Orchard Park, NY | 49 CFR 173.302(a) 175.3 | To authorize the manufacture, marking, sale and use of non-DOT specification cylinders similar to DOT specification 39 cylinder for use in transporting helium, Division 2.2. (Modes 1, 2, 4.)
12533-N | RSPA-00-7862 | Adams Healthcare Ltd., Garforth, Leeds, EN | 49 CFR 173.306(a)(3)(v) | To authorize alternative testing criteria for aerosol containers meeting DOT specification 2Q for use in transporting Divison 2.1 material. (Modes 1, 3.)
12534-N | RSPA-00-7863 | MODcol Corp., Sunnyvale, CA | 49 CFR 173.302, 178.602-178.606 | To authorize the manufacture, marking, sale and use of a composite package containing limited quantities of Class 3 material with fiberboard or plywood overpack. (Modes 1, 2, 3, 4.)
12535-N | RSPA-00-7886 | Untied States Department of Commerce, Gaithersburg, MD | 49 CFR 177.842(b)(1) | To authorize the transportation in commerce of unirradiated fuel in carbon steel structures with an alternative distance separation within the transport vehicle. (Mode 1.)
12536-N | RSPA-00-7887 | Department of Energy, Albuquerque, NM | 49 CFR 173.211 | To authorize the transportation in commerce of a specially designed device consisting of a sealed stainless steel containment vessel overpacked in a steel transport container for an oxidizing solid, Division 5.1. (Mode 1.)
12537-N | RSPA-00-7885 | Noranda-Dupont LLC, Wilmington, DE | 49 CFR 172.203(a), 180.509((1) (2) | To authorize an alternative retest criteria for DOT specification 111A100W tank cars used in sulfuric acid service. (Mode 1.)
12538-N | RSPA-00-7884 | Champagne Specialties, Inc., Fairport, NY | 49 CFR 180.519 | To authorize the repair and alteration of multi-tank car tanks that conform to alternative requirements for qualification and maintenance. (Mode 1.)
12539-N | RSPA-00-7883 | Edlow International Company, Washington, DC | 49 CFR 173.420(a)(2)(i) | To authorize the one-time transportation of 19 model 30B cylinders, which deviate from the ANSI 14.1 standards, containing uranium hexafluoride, Class 7. (Modes 1, 3.)
12541-N | RSPA-00-7888 | Rotonics Manufacturing, Inc., Gardena, CA | 49 CFR 172.101 Col 8b and 8c, 173.197 | To authorize the manufacture, marking, sale and use of a 200 gallon, high density polyethylene, rotationally molded roll on/roll off container as an outer packaging for use in transporting regulated medical waste, Division 6.2. (Mode 1.)
12542-N | RSPA-00-7889 | United States Enrichment Corporation (USEC), Bethesda, MD | 49 CFR 173.420(a)(2)(i) | To authorize the transportation in commerce of one model 48X cylinder, which deviated from the ANSI 14.1 standards, containing uranium hexafloride, Class 7. (Modes 1, 2.)

[FR Doc. 00-24183 Filed 9-19-00; 8:45 am]

BILLING CODE 4910-60-M